DEPARTMENT OF HEALTH AND HUMAN SERVICES

Office of Inspector General

Solicitation of Information and Recommendations for Supplementing the Guidance Provided in the Special Advisory Bulletin on the Effect of Exclusion from Participation in Federal Health Care Programs

AGENCY: Office of Inspector General (OIG), HHS.

ACTION: Notice.

SUMMARY: This notice informs the public that the Office of Inspector General (OIG) intends to update the Special Advisory Bulletin on the Effect of Exclusion from Participation in Federal Health Care Programs (64 FR 52791; September 30, 1999) and solicits input from the public for OIG to consider in developing the updated bulletin.

DATES: To assure consideration, public comments must be delivered to the address provided below by no later than 5 p.m. on January 11, 2011.

ADDRESSES: In commenting, please refer to file code OIG-115-N. Because of staff and resource limitations, we cannot accept comments by facsimile (FAX) transmission.

You may submit comments in one of three ways (no duplicates, please):

• Electronically. You may submit electronic comments on specific recommendations and proposals through the Federal eRulemaking Portal at http://www.regulations.gov. (Attachments should be in Microsoft Word, if possible.)

• By regular, express, or overnight mail. You may send written comments to the following address: Office of Inspector General, Department of Health and Human Services, Attention: OIG-115-N, Room 5541, Cohen Building, 330 Independence Avenue, SW., Washington, DC 20201. Please allow sufficient time for mailed comments to be received before the close of the comment period.

• By hand or courier. If you prefer, you may deliver, by hand or courier, your written comments before the close of the comment period to Office of Inspector General, Department of Health and Human Services, Cohen Building, 330 Independence Avenue, SW., Washington, DC 20201. Because access to the interior of the Cohen Building is not readily available to persons without Federal Government identification, commenters are encouraged to schedule their delivery with one of our staff members at (202) 619-1343.

For information on viewing public comments, please see the Supplementary Information section.

FOR FURTHER INFORMATION CONTACT: Patrice Drew, Department of Health and Human Services, Office of Inspector General, Office of External Affairs, (202) 619-1368.

SUPPLEMENTARY INFORMATION: Submitting Comments: We welcome comments from the public on this Special Advisory Bulletin on the Effect of Exclusion from Participation in Federal Health Care Programs. Please assist us by referencing the file code OIG-115-N.

Inspection of Public Comments: All comments received before the end of the comment period are available for viewing by the public. All comments will be posted on http://www.regulations.gov as soon as possible after they have been received. Comments received timely will also be available for public inspection as they are received at Office of Inspector General, Department of Health and Human Services, Cohen Building, 330 Independence Avenue, SW., Washington, DC 20201, Monday through Friday from 8:30 a.m. to 4 p.m. To schedule an appointment to view public comments, phone (202) 401-2206.

Background

The Special Advisory Bulletin on the Effect of Exclusion from Participation in Federal Health Care Programs contains guidance which has proven to be extremely important to excluded individuals and to all of those in the health care industry who are concerned with compliance. The health care industry and health care professionals have now had more than a decade of experience with the ramifications of exclusion since OIG first published this bulletin in 1999. With time it has become even more apparent that exclusion has a significant impact, not only on those who have been excluded but also on entities that have employed or contracted with excluded persons and been faced with liability for overpayments and civil monetary penalties as a result. As OIG's compliance and enforcement activities in this area have increased, many health care providers have discovered that they employ excluded individuals and have self-disclosed to the OIG. Many health care providers have also sought to design compliance programs that will minimize the risk of submitting claims to a Federal health care program for items or services furnished, ordered, or prescribed by an excluded individual. In considering the content of the Special Advisory Bulletin, OIG is soliciting comments, recommendations, and other suggestions from concerned parties and organizations on how best to supplement the guidance provided in the Special Advisory Bulletin to address relevant issues and to provide useful guidance to the industry. For example, OIG seeks comments on areas in which clarification and further guidance on the effect of exclusion may be helpful.

Dated: November 5, 2010.
Daniel R. Levinson,
Inspector General.

[FR Doc. 2010-28366 Filed 11-10-10; 8:45 am]

BILLING CODE 4152-01-P